DEPARTMENT OF THE INTERIOR

Bureau of Land Management

[WY-030-1310-DB]

Notice of Availability of Final Environmental Impact Statement for the Desolation Flats Natural Gas Field Development Project

AGENCY: Bureau of Land Management, Department of the Interior.

ACTION: Notice of Availability (NOA) of a Final Environmental Impact Statement (FEIS) for the Desolation Flats Natural Gas Field Development Project, Wyoming.

SUMMARY: The Bureau of Land Management (BLM) announces the availability of the Desolation Flats Natural Gas Field Development Project FEIS that analyzes the environmental consequences of the Desolation Flats proposed natural gas development and production operation. The 233,542 acre Desolation Flats project area is located within the administrative jurisdictions of the BLM Rawlins and Rock Springs Field Offices, approximately 21 miles south of Wamsutter and 14 miles west of Baggs, Wyoming in Townships 13-16 North, Ranges 93-96 West, Sixth Principal Meridian, Sweetwater and Carbon Counties.

DATES: The FEIS will be available for review for 30 calendar days from the date the Environmental Protection Agency (EPA) publishes its NOA in the Federal Register. The BLM can best utilize your comments and resource information submissions within the 30 day review period provided above.

ADDRESSES: A copy of the FEIS has been sent to affected Federal, State, and local government agencies and to interested parties. Copies of the FEIS will be available for public inspection at the following locations:

• Bureau of Land Management, Wyoming State Office, 5353 Yellowstone Road, Cheyenne, Wyoming 82009.

• Bureau of Land Management, Rawlins Field Office, 1300 N. Third Street, Rawlins, Wyoming 82301.

• Bureau of Land Management, Rock Springs Field Office, 280 Highway 191 North, Rock Springs, Wyoming 82901.

FOR FURTHER INFORMATION CONTACT: Mr. David Simons, Project Manager, BLM Rawlins Field Office, 1300 N. Third Street, Rawlins, Wyoming 82301. Mr. Simons may also be reached at (307) 367-5309. Ms. Teri Deakins, Environmental Protection Specialist, BLM Rock Spring Field Office, 280 Highway 191 North, Rock Springs, Wyoming 82901 may also be contacted and reached at (307) 352-0211.

SUPPLEMENTARY INFORMATION: EOG Resources, Inc., Tom Brown, Inc., Basin Exploration, Inc., Yates Petroleum Corporation, Questar Exploration and Production Company, Merit Energy Company, Santa Fe Snyder Corporation and other companies (referred to the Operators) propose to drill up to 592 wells. Over the next 20 years the Operators propose to explore and develop the oil and gas resources held through their existing leases within the Desolation Flats Project Area. Well density would range from two wells per 640 acres to four wells per 640 acres, depending on geologic conditions.

Expansion of natural gas exploration and development is proposed in and adjacent to other oil and gas developments including the Willow Reservoir, Wedge, Mulligan Draw, Powder Mountain, Desolation Flats, Ruger, Dripping Rock, Cedar Chest, Triton, and Lookout Wash Units and the surrounding areas, collectively referred to as the Desolation Flats Area. Of the approximately 233,500 acres area surface ownership of the project area is 96 percent Federal lands administered by the BLM, 3 percent private, and less than 1 percent State of Wyoming. Currently, there are approximately 127 producing oil and gas wells drilled within the Desolation Flats project area, and up to 592 additional wells could be drilled over the next 20 years.

The BLM published its Notice of Intent to prepare an Environmental Impact Statement for the Desolation Flats Natural Gas Development Project in the Federal Register, on May 18, 2000. The Notice of Availability of a Desolation Flats Draft EIS was published by the EPA in the Federal Register May 2, 2003. Based upon issues and concerns identified during scoping and throughout the NEPA process, the Desolation Flats FEIS analyses focus on the impacts to air quality, biological and physical resources, transportation, socio-economics, and cumulative effects. The FEIS, in compliance with section 7(c) of the Endangered Species Act, as amended, includes the Biological Assessment for the purpose of identifying endangered or threatened species which may be affected by the Proposed Action.

The Desolation Flats FEIS analyzed 3 alternatives in detail:

1. The Proposed Action Alternative, as described below;

2. Alternative A, an alternative that proposes to expand oil and gas development into less productive areas within the project area;

3. Alternative B, the No Action Alternative, which means to project as proposed would not be authorized.

Agency Preferred Alternative: BLM's preferred alternative is the Proposed Action Alternative.

The Desolation Flats FEIS analyzes the impacts of the Proposed Action, economic field development of 385 natural gas wells, along with access roads, pipelines, and other ancillary facilities (gas processing plant, compressor stations, water disposal sites, etc.).

Alternative A, which is similar to the Proposed Action, would expand well development into the economically marginal areas of the leases that may become economically viable in the future, increasing the number of wells to approximately 592 wells within the project area.

Alternative B is the no-action alternative. Applications for Permit to Drill (APDs) and Right-of-Way actions would be granted by the BLM on a case-by-case basis through individual project and site-specific environmental analysis.

How To Submit Comments

The BLM welcomes your comments on the Desolation Flats FEIS. Comments may be submitted as follows:

Written comments may be mailed directly or delivered to the BLM at: Desolation Flats FEIS, Project Manager, Bureau of Land Management Rawlins Field Office, 1300 N. Third Street, P.O. Box 2407, Rawlins, WY 82301.

BLM will only accept comments on the Desolation Flats FEIS if they are submitted in one of the methods as described above. To be given consideration by BLM all DEIS comment submittals must include the commenter's name and street address.

Our practice is to make comments, including the names and street addresses of each respondent, available for public review at the BLM office listed above during business hours (7:45 a.m. to 4:30 p.m.), Monday through Friday, except for Federal holidays. Your comments may be published as part of the EIS process. Individual respondents may request confidentiality. If you wish to withhold your name or street address or both from public review or from disclosure under the Freedom of Information Act, you must state this prominently at the beginning of your written comments. Such requests will be honored to the extent allowed by law. We will not consider anonymous comments. All submissions from organizations or businesses will be made available for public inspection in their entirety.

Dated: March 18, 2004.
Alan L. Kesterke,
Associate State Director.

[FR Doc. 04-11498 Filed 5-27-04; 8:45 am]

BILLING CODE 4310-22-P